DEPARTMENT OF THE INTERIOR

Fish and Wildlife Service

[FWS-R2-ES-2018-N278; FXES11130200000C2-112-FF02ENNM00]

Endangered and Threatened Wildlife and Plants; Draft Recovery Plan for Four Invertebrate Species of the Pecos River Valley

AGENCY: Fish and Wildlife Service, Interior.

ACTION: Notice of availability; request for comment.

SUMMARY: We, the Fish and Wildlife Service (Service), announce the availability of our draft recovery plan for four invertebrate species—Noel's Amphipod, Koster's springsnail, Roswell springsnail, and Pecos assiminea—all of which are listed as endangered under the Endangered Species Act of 1973, as amended (Act). These invertebrate species are currently found in southeastern New Mexico and southwest Texas. The draft recovery plan includes specific recovery objectives and criteria to be met in order to enable us to remove these species from the list of endangered and threatened wildlife and plants. We request review and comment on this plan from local, State, and Federal agencies; Tribes; and the public. We will also accept any new information on the status of these species throughout their range to assist in finalizing the recovery plan.

DATES: To ensure consideration, we must receive written comments on or before June 1, 2018. However, we will accept information about any species at any time.

ADDRESSES: If you wish to review the draft recovery plan, you may obtain a copy by any one of the following methods:

• internet: www.fws.gov/southwest/es/;

• U.S. mail: U.S. Fish and Wildlife Service, NM Ecological Services Field Office, 2105 Osuna NE, Albuquerque, NM 87113; or

• Telephone: 505-346-2542.

If you wish to comment on the draft recovery plan, you may submit your comments in writing by any one of the following methods:

• U.S. mail: Field Supervisor, at the above address;

• Hand-delivery: New Mexico Ecological Services Office, at the above address;

• Fax: 505-346-2542; or

• Email: Debra_Hill@fws.gov.

For additional information about submitting comments, see the “Request for Public Comments” section below.

FOR FURTHER INFORMATION CONTACT: Debra Hill, New Mexico Energy Streamlining Program Coordinator, at the above address and phone number, or by email at debra_hill@fws.gov.

SUPPLEMENTARY INFORMATION:

Background

Recovery of endangered or threatened animals and plants to the point where they are again secure, self-sustaining members of their ecosystems is a primary goal of our endangered species program and the Act (16 U.S.C. 1531 et seq.). Recovery means improvement of the status of listed species to the point at which listing is no longer appropriate under the criteria set out in section 4(a)(1) of the Act. The Act requires the development of recovery plans for listed species, unless such a plan would not promote the conservation of a particular species.

Species History

Noel's amphipod (Gammarus desperatus), Koster's springsnail (Juturnia kosteri), Roswell springsnail (Pyrgulopsis roswellensis), and Pecos assiminea (Assiminea pecos) (four invertebrates) are associated with spring systems in desert-grasslands in southeastern New Mexico and southwestern Texas. In 2005, the four invertebrates were federally listed as endangered throughout their range, including the Roswell Basin aquifer system in southeastern New Mexico and the Toyah and Coyanosa Basins in southwest Texas. All four species are found on Bitter Lake National Wildlife Refuge in southern New Mexico. Pecos assiminea (Assiminea pecos) is also located at Diamond Y and East Sandia Spring in west Texas. Critical habitat was designated for the four species in 2011.

Water quantity decreases and associated spring flow declines are the primary threats to the four invertebrate species. Groundwater pumping in the Roswell Basin, New Mexico, and in Pecos and Reeves Counties, Texas, has led to the drying of several springs, many of which are known to have harbored one or more of the four invertebrate species. Droughts and climate change can also affect springs and groundwater recharge through decreased flow, and indirectly through increased groundwater pumping. Threats to water quality are considered to be less significant than threats to water quantity, yet still important due to the species' extremely limited range and specialized tolerances that could be impacted by spills of high magnitude (degree to which the threats are affecting or can affect the species) or scope (how much of the species' range the threats are affecting or can affect). Sources of water quality degradation include, but are not limited to (1) contamination of ground water, (2) limited oil and gas activities, (3) hazardous materials spills from train derailments or other causes, (4) golden algae blooms, and (5) urbanization and stormwater runoff, all of which are expected to increase in the future. All four invertebrate species have a localized range, limited mobility, and fragmented habitat, meaning that any perturbation, either natural or anthropogenic, could eliminate many or all of the existing populations. Having a high number of individuals at a site provides little protection against extinction should their habitat become dry or contaminated. Limited mobility restricts their dispersal abilities and the fragmented (unconnected) habitat restricts gene flow among populations. Additional threats include invasive species, inadequate existing regulatory mechanisms, and climate change.

The overall strategy involves preserving, restoring, and managing their aquatic habitat, along with the water resources necessary to support resilient populations of these species and the ecosystems on which they depend. More specifically, the strategy is to: Ensure adequate water quantity; protect and improve water quality; protect and restore surface habitats; maintain and manage populations throughout each species' range, including conducting monitoring and research and establishing emergency programs necessary to maintain the species in captivity in case of catastrophic events; control invasive and predatory species; collaborate with partners to achieve conservation goals in balance with community water needs; and engage in community outreach to promote the importance of Bitter Lake National Wildlife Refuge and its diverse array of wildlife, including sensitive, rare aquatic invertebrates, worthy of preserving. Employment of this strategy will lead to preservation of the array of habitat types used by the invertebrates, and protection of genetic diversity (representation) of each of the four species.

Recovery Plan Goals

The objective of an agency recovery plan is to provide a framework for the recovery of a species so that protection under the Act is no longer necessary. A recovery plan includes scientific information about the species and provides criteria and actions necessary for us to be able to reclassify the species to threatened status or remove it from the List. Recovery plans help guide our recovery efforts by describing actions we consider necessary for the species' conservation and by estimating time and costs for implementing needed recovery measures. This draft recovery plan identifies the following objectives to achieve the goal of species' recovery:

1. Securing the long-term survival of each species with the appropriate number, size, and distribution of populations;

2. Preserving sites that contain the necessary elements for each species' persistence, such as adequate water quantity and quality;

3. Reducing threats within management units so that the four invertebrate species' populations are capable of enduring stressors;

4. Conducting monitoring and research to understand population patterns, maintain genetic diversity, and identify new sites for species' introductions or repatriation; and

5. Working with others to develop long-term management plans and educational approaches that will protect the four invertebrates and inform the community about their habitat needs and ecological importance.

The draft recovery plan contains recovery criteria based on maintaining and increasing population numbers and habitat quality and quantity and mitigating significant threats to the species. Recovery actions to attain the recovery criteria focus on protecting populations, managing threats, maintaining habitat, monitoring progress, and building partnerships to facilitate recovery. When the recovery of the four species approaches these criteria, we will review the species' status and consider downlisting, and, ultimately, removal from the list of federally threatened and endangered species.

Request for Public Comments

Section 4(f) of the Act requires us to provide public notice and an opportunity for public review and comment during recovery plan development. It is also our policy to request peer review of recovery plans (July 1, 1994; 59 FR 34270). In an appendix to the approved recovery plan, we will summarize and respond to the issues raised by the public and peer reviewers. Substantive comments may or may not result in changes to the recovery plan; comments regarding recovery plan implementation will be forwarded as appropriate to Federal or other entities so that they can be taken into account during the course of implementing recovery actions. Responses to individual commenters will not be provided, but we will provide a summary of how we addressed substantive comments in an appendix to the approved recovery plan.

We invite written comments on the draft recovery plan. In particular, we are interested in additional information regarding the current threats to the species and the implementation of the recommended recovery actions.

Before we approve our final recovery plan, we will consider all comments we receive by the date specified in DATES, above. Methods of submitting comments are in the ADDRESSES section above.

Public Availability of Comments

Before including your address, phone number, email address, or other personal identifying information in your comment, you should be aware that your entire comment—including your personal identifying information—may be made publicly available at any time. While you can ask us in your comment to withhold your personal identifying information from public review, we cannot guarantee that we will be able to do so.

Comments and materials we receive will be available, by appointment, for public inspection during normal business hours at our office (see ADDRESSES).

References Cited

A complete list of all references cited herein is available upon request from the U.S. Fish and Wildlife Service, Branch of Recovery (see FOR FURTHER INFORMATION CONTACT section).

Authority

We developed our draft recovery plan under the authority of section 4(f) of the Act, 16 U.S.C. 1533(f). We publish this notice under section 4(f) Endangered Species Act of 1973, as amended (16 U.S.C. 1531 et seq.).

Dated: _February 1, 2018.
Joy E. Nicholopoulos,
Acting Regional Director, Southwest Region, U.S. Fish and Wildlife Service.

[FR Doc. 2018-06614 Filed 3-30-18; 8:45 am]

BILLING CODE 4333-15-P